NATIONAL FOUNDATION ON THE ARTS AND THE HUMANITIES

National Endowment for the Arts

Arts Advisory Panel Meetings

AGENCY: National Endowment for the Arts.

ACTION: Notice of meetings.

SUMMARY: Pursuant to the Federal Advisory Committee Act, as amended, notice is hereby given that 25 meetings of the Arts Advisory Panel to the National Council on the Arts will be held by teleconference or videoconference.

DATES: See the SUPPLEMENTARY INFORMATION section for individual meeting times and dates. All meetings are Eastern time and ending times are approximate.

ADDRESSES: National Endowment for the Arts, Constitution Center, 400 7th St. SW, Washington, DC 20506.

FOR FURTHER INFORMATION CONTACT: Further information with reference to these meetings can be obtained from David Travis, Office of Guidelines & Panel Operations, National Endowment for the Arts, Washington, DC 20506; travisd@arts.gov, or call 202-682-5001.

SUPPLEMENTARY INFORMATION: The closed portions of meetings are for the purpose of Panel review, discussion, evaluation, and recommendations on financial assistance under the National Foundation on the Arts and the Humanities Act of 1965, as amended, including information given in confidence to the agency. In accordance with the determination of the Chair of March 11, 2022, these sessions will be closed to the public pursuant to 5 U.S.C. 10.

The upcoming meetings are:

Arts Education (review of applications): This meeting will be closed.

Date and time: December 1, 2023; 11:30 a.m. to 1:30 p.m.

Arts Education (review of applications): This meeting will be closed.

Date and time: December 1, 2023; 2:30 p.m. to 4:30 p.m.

Presenting and Multidisciplinary Works (review of applications): This meeting will be closed.

Date and time: December 5, 2023; 12:00 p.m. to 2:00 p.m.

Musical Theater (review of applications): This meeting will be closed.

Date and time: December 5, 2023; 1:00 p.m. to 3:00 p.m.

Arts Education (review of applications): This meeting will be closed.

Date and time: December 5, 2023; 1:30 p.m. to 3:30 p.m.

Presenting and Multidisciplinary Works (review of applications): This meeting will be closed.

Date and time: December 5, 2023; 3:00 p.m. to 5:00 p.m.

Theater (review of applications): This meeting will be closed.

Date and time: December 5, 2023; 4:00 p.m. to 6:00 p.m.

Our Town (review of applications): This meeting will be closed.

Date and time: December 6, 2023; 11:00 a.m. to 1:00 p.m.

Presenting and Multidisciplinary Works (review of applications): This meeting will be closed.

Date and time: December 6, 2023; 12:00 p.m. to 2:00 p.m.

Local Arts Agencies (review of applications): This meeting will be closed.

Date and time: December 6, 2023; 2:00 p.m. to 4:00 p.m.

Our Town (review of applications): This meeting will be closed.

Date and time: December 6, 2023; 2:30 p.m. to 4:30 p.m.

Presenting and Multidisciplinary Works (review of applications): This meeting will be closed.

Date and time: December 6, 2023; 3:00 p.m. to 5:00 p.m.

Our Town (review of applications): This meeting will be closed.

Date and time: December 7, 2023; 11:00 a.m. to 1:00 p.m.

Presenting and Multidisciplinary Works (review of applications): This meeting will be closed.

Date and time: December 7, 2023; 12:00 p.m. to 2:00 p.m.

Theater (review of applications): This meeting will be closed.

Date and time: December 7, 2023; 1:00 p.m. to 3:00 p.m.

Local Arts Agencies (review of applications): This meeting will be closed.

Date and time: December 7, 2023; 1:00 p.m. to 3:00 p.m.

Our Town (review of applications): This meeting will be closed.

Date and time: December 7, 2023; 2:30 p.m. to 4:30 p.m.

Presenting and Multidisciplinary Works (review of applications): This meeting will be closed.

Date and time: December 7, 2023; 3:00 p.m. to 5:00 p.m.

Local Arts Agencies (review of applications): This meeting will be closed.

Date and time: December 7, 2023; 3:30 p.m. to 5:30 p.m.

Museums (review of applications): This meeting will be closed.

Date and time: December 12, 2023; 11:30 a.m. to 1:30 p.m.

Folk and Traditional Arts (review of applications): This meeting will be closed.

Date and time: December 12, 2023; 2:00 p.m. to 4:00 p.m.

Museums (review of applications): This meeting will be closed.

Date and time: December 12, 2023; 2:30 p.m. to 4:30 p.m.

Museums (review of applications): This meeting will be closed.

Date and time: December 13, 2023; 11:30 a.m. to 1:30 p.m.

Folk and Traditional Arts (review of applications): This meeting will be closed.

Date and time: December 13, 2023; 2:00 p.m. to 4:00 p.m.

Museums (review of applications): This meeting will be closed.

Date and time: December 13, 2023; 2:30 p.m. to 4:30 p.m.

Dated: November 13, 2023.
David Travis,
Specialist, National Endowment for the Arts.

[FR Doc. 2023-25369 Filed 11-16-23; 8:45 am]

BILLING CODE 7537-01-P